DEPARTMENT OF THE TREASURY

Customs Service

19 CFR Part 113

RIN 1515-AC44

Importation and Entry Bond Conditions Regarding Other Agency Documentation Requirements

AGENCY: U.S. Customs Service, Department of the Treasury.

ACTION: Notice of withdrawal of proposed rulemaking.

SUMMARY: This document informs the public that Customs has decided to withdraw a proposal to amend the Customs Regulations regarding the bond condition on the basic entry and importation bond requiring the principal to furnish Customs with any document or evidence required to be submitted to Customs by law or regulation. The proposal would have expanded this bond condition to require the principal to furnish to other Government agencies any document or evidence required in connection with the importation/entry process required to be submitted to those agencies under the laws or regulations of those agencies.

DATES: As of March 20, 2003, the proposed rule published on August 6, 1999 (64 FR 42872) is withdrawn.

FOR FURTHER INFORMATION CONTACT: Jeremy Baskin, Penalties Branch, Office of Regulations and Rulings, (202) 572-8750.

SUPPLEMENTARY INFORMATION:

Background

On August 6, 1999, Customs published a document in the Federal Register (64 FR 42872) proposing to amend the Customs Regulations pertaining to the basic importation and entry bond condition under which, if merchandise is conditionally released to the principal named in the bond, the principal agrees to furnish Customs with any document or evidence as required by law or regulation. The proposed amendment would have extended this requirement, and consequently the potential liability for payment of liquidated damages for a breach of the bond condition, to documents and evidence required to be submitted to other Government agencies under laws and regulations of those other agencies.

The impetus for the proposal was that another agency asked Customs whether the Customs bond could be used to provide a consequence for the failure to provide a specific document to that agency when that agency required the document upon the importation of certain articles. Rather than issuing a narrow proposed rule governing the presentation of the specific document, Customs proposed to amend the provisions of the basic importation and entry bond to allow for the assessment of liquidated damages if there is a failure to provide any document to other Government agencies in the time period prescribed under the laws and regulations of those other agencies.

Comments on the proposed amendment to the Customs Regulations were solicited.

Customs received six comments on the proposed amendment to the regulation. All of the comments were strongly opposed to the implementation of the proposed amendment. They stated that the proposed amendment was far too broad and that it allowed for liquidated damages for unidentified violations of unknown laws administered by unknown agencies.

Customs has carefully considered the comments received, further reviewed the matter, and agrees with the commenters. Accordingly, Customs is withdrawing the proposal it published on August 6, 1999.

Robert C. Bonner,
Commissioner of Customs.
Approved: February 25, 2003.
Timothy E. Skud,
Deputy Assistant Secretary of the Treasury.

[FR Doc. 03-6758 Filed 3-19-03; 8:45 am]

BILLING CODE 4820-02-P